NATIONAL AERONAUTICS AND SPACE ADMINISTRATION

[05-171]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to the Desk Officer for NASA, Office of Information and Regulatory Affairs, Room 10236, New Executive Office Building, Washington, DC 20503.

FOR FURTHER INFORMATION CONTACT: Requests for additional information or copies of the information collection instrument(s) and instructions should be directed to Mr. Walter Kit, Reports Officer, Office of the Chief Information Officer, NASA Headquarters, 300 E Street, SW., Mail Suite JA000, Washington, DC 20546-0001, 202-358-1350, walter.kit-1@nasa.gov.

SUPPLEMENTARY INFORMATION:

I. Abstract

This collection is required by NASA SBIR/STTR contractors to complete and submit a recertification of program compliance prior to final payment under the contracts. It is believed that this will hold contractors more accountable to Federal statues and reduce fraud.

II. Method of Collection

Respondents (SBIR/STTR contractors) provide unformatted re-certification information showing compliance to program requirements as required by the NASA FAR Supplement, Section 1852.232-83, Conditions for Final Payment—SBIR and STTR Contracts. The certification can be sent by e-mail or regular post.

III. Data

Title: Small Business Innovative Research/Small Business Technology Transfer Contractor Re-certification of Program Compliance.

OMB Number: 2700-.

Type of Review: New collection.

Affected Public: Business or other for-profit.

Estimated Number of Respondents: 484 (one time re-certification requirement per contractor).

Estimated Time Per Response: 0.5 hour.

Estimated Total Annual Burden Hours: 242.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Patricia L. Dunnington,
Chief Information Officer.

[FR Doc. E5-7734 Filed 12-22-05; 8:45 am]

BILLING CODE 7510-13-P